DEPARTMENT OF HEALTH AND HUMAN SERVICES

Administration for Children and Families

Office on Trafficking in Persons; Notice of Meeting

AGENCY: Office on Trafficking in Persons, Administration for Children and Families (ACF), HHS.

ACTION: Notice of meeting; call for public comments on strategies to engage stakeholders to improve the Nation's response to the sex trafficking of children and youth.

SUMMARY: Notice is hereby given, pursuant to the provisions of the Federal Advisory Committee Act (FACA) and the Preventing Sex Trafficking and Strengthening Families Act, that a meeting of the National Advisory Committee on the Sex Trafficking of Children and Youth in the United States (Committee) will be held on September 17, 2020. The purpose of the meeting is for the Committee to discuss the dissemination of its State Self-Assessment Survey, as well as its interim report on recommended best practices for States to follow to combat the sex trafficking of children and youth based on multidisciplinary research and promising, evidence-based models and programs.

The members of the Committee request examples and comments from the public to inform their work. The Committee requests input on strategies to engage stakeholders across states that relate to the Committee's recommendations in the interim report as well as strategies to support states as they complete the State Self-Assessment. Please email your examples and/or comments to NAC@nhttac.org with the subject “NAC Comments” as soon as possible and before September 1.

DATES: The meeting will be held on September 17, 2020.

ADDRESSES: The meeting will be held virtually. Please register for this event online at: https://www.acf.hhs.gov/otip/resource/nacagenda0920.

FOR FURTHER INFORMATION CONTACT: Katherine Chon (Designated Federal Officer) at EndTrafficking@acf.hhs.gov or (202) 205-5778 or 330 C Street SW, Washington, DC 20201. Additional information is available at https://www.acf.hhs.gov/otip/partnerships/the-national-advisory-committee.

SUPPLEMENTARY INFORMATION: The formation and operation of the Committee are governed by the provisions of Public Law 92-463, as amended (5 U.S.C. App. 2), which sets forth standards for the formation and use of federal advisory committees.

Purpose of the Committee: The purpose of the Committee is to advise the Secretary and the Attorney General on practical and general policies concerning improvements to the nation's response to the sex trafficking of children and youth in the United States. HHS established the Committee pursuant to Section 121 of the Preventing Sex Trafficking and Strengthening Families Act of 2014 (Pub. L. 113-183).

Tentative Agenda: The agenda can be found at https://www.acf.hhs.gov/otip/partnerships/the-national-advisory-committee. To submit written statements, email NAC@acf.hhs.gov by September 1, 2020. Please include your name, organization, and phone number. More details on these options are below.

Public Accessibility to the Meeting: Pursuant to 5 U.S.C. 552b and 41 CFR 102-3.140 through 102-3.165, and subject to the availability of space, this meeting is open to the public virtually.

Written Statements: Pursuant to 41 CFR 102-3.105(j) and 102-3.140 and section 10(a)(3) of the Federal Advisory Committee Act, the public may submit written statements in response to the stated agenda of the meeting or to the committee's mission in general. Organizations with recommendations on strategies to engage states and stakeholders are encouraged to submit their comments or resources (hyperlinks preferred). Written comments or statements received after September 1, 2020, may not be provided to the Committee until its next meeting.

Verbal Statements: Pursuant to 41 CFR 102-3.140d, the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at: https://www.acf.hhs.gov/otip/partnerships/the-national-advisory-committee.

Dated: August 20, 2020.
Linda Hitt,
ACF/ES Certifying Officer.

[FR Doc. 2020-18674 Filed 8-25-20; 8:45 am]

BILLING CODE 4184-40-P